DEPARTMENT OF HEALTH AND HUMAN SERVICES

Indian Health Service

Reimbursement Rates for Calendar Year 2014

AGENCY: Indian Health Service, HHS.

ACTION: Notice.

SUMMARY: Notice is given that the Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2014 for Medicare and Medicaid beneficiaries, and beneficiaries of other Federal programs, and for recoveries under the Federal Medical Care Recovery Act (42 U.S.C. 2651-2653). The Medicare Part A inpatient rates are excluded from the table below as they are paid based on the prospective payment system. Since the inpatient rates set forth below do not include all physician services and practitioner services, additional payment shall be available to the extent that those services are provided.

| Calendar Year 2014
Inpatient Hospital Per Diem Rate (Excludes Physician/Practitioner Services)
Lower 48 States | $2,413
Alaska | $2,675
Outpatient Per Visit Rate (Excluding Medicare)
Lower 48 States | $342
Alaska | $564
Outpatient Per Visit Rate (Medicare)
Lower 48 States | $297
Alaska | $516
Medicare Part B Inpatient Ancillary Per Diem Rate
Lower 48 States | $502
Alaska | $862
Outpatient Surgery Rate (Medicare):
Established Medicare rates for freestanding Ambulatory Surgery Centers.
Effective Date for Calendar Year 2014 Rates:
Consistent with previous annual rate revisions, the Calendar Year 2014 rates will be effective for services provided on/or after January 1, 2014 to the extent consistent with payment authorities including the applicable Medicaid State plan.

Dated: December 2, 2013.
Yvette Roubideaux,
Acting Director, Indian Health Service.

[FR Doc. 2014-07796 Filed 4-7-14; 8:45 am]

BILLING CODE 4165-16-P